DEPARTMENT OF LABOR

Employment and Training Administration

[TA-W-63,766]

Federal Mogul Corporation Lighting Products Division, Boyertown, PA; Amended Certification Regarding Eligibility To Apply for Worker Adjustment Assistance and Alternative Trade Adjustment Assistance

In accordance with section 223 of the Trade Act of 1974 (19 U.S.C. 2273), and section 246 of the Trade Act of 1974 (26 U.S.C. 2813), as amended, the Department of Labor issued a Certification of Eligibility to Apply for Worker Adjustment Assistance and Alternative Trade Adjustment Assistance on August 27, 2008, applicable to workers of Federal Mogul Corporation, Lighting Products Division, Boyertown, Pennsylvania. The notice will be published soon in the Federal Register .

At the request of the State agency, the Department reviewed the certification for workers of the subject firm. The workers are engaged in the production of sealed beam forward lighting products.

Findings show that there was a previous certification, TA-W-58,721, issued on March 6, 2006, for the workers of the Boyertown, Pennsylvania location of the subject firm. That certification expired March 6, 2008. To avoid an overlap in worker group coverage for the workers of the Boyertown, Pennsylvania location, the certification is being amended to change the impact date from July 24, 2007 to March 7, 2008.

Accordingly, the Department is amending the certification to properly reflect this matter.

The intent of the Department's certification is to include all workers of Federal Mogul Corporation who were adversely affected by increased imports of sealed beam forward lighting.

The amended notice applicable to TA-W-63,766 is hereby issued as follows:

“All workers of Federal Mogul Corporation, Lighting Products Division, Boyertown, Pennsylvania, who became totally or partially separated from employment on or after March 7, 2008, through August 27, 2010, are eligible to apply for adjustment assistance under Section 223 of the Trade Act of 1974, and are also eligible to apply for alternative trade adjustment assistance under Section 246 of the Trade Act of 1974.”

Signed at Washington, DC, this 10th day of September 2008.
Richard Church,
Certifying Officer, Division of Trade Adjustment Assistance.

[FR Doc. E8-21845 Filed 9-17-08; 8:45 am]

BILLING CODE 4510-FN-P